DEPARTMENT OF COMMERCE

National Oceanic and Atmospheric Administration

50 CFR Part 679

[Docket No. 070213032-7032-01; I.D. 112206B]

Fisheries of the Exclusive Economic Zone Off Alaska; Gulf of Alaska; 2007 and 2008 Final Harvest Specifications for Groundfish; Correction

AGENCY: National Marine Fisheries Service (NMFS), National Oceanic and Atmospheric Administration (NOAA), Commerce.

ACTION: Final rule; correction.

SUMMARY: On March 5, 2007, NMFS published a final rule implementing 2007 and 2008 final harvest specifications, reserves and apportionments thereof, Pacific halibut prohibited species catch (PSC) limits, and associated management measures for the groundfish fishery of the Gulf of Alaska (GOA). Table 10 of that document identifies the apportionment of Pacific halibut PSC trawl limits between the trawl gear and deep-water species complex and the shallow-water species complex. The heading to Table 10 indicated that the final apportionments were for fishing years 2006 and 2007 rather than for 2007 and 2008. In addition, Table 20 of that document contained the final 2007 and 2008 rockfish program halibut mortality limits for the catcher/processor and catcher vessel sectors. That table also contained inadvertent errors. This final rule document corrects errors published in the final harvest specifications.

DATES: Effective March 5, 2007, through December 31, 2008.

FOR FURTHER INFORMATION CONTACT: Tom Pearson, Sustainable Fisheries Division, Alaska Region, 907-481-1780, or e-mail at tom.pearson@noaa.gov.

SUPPLEMENTARY INFORMATION: NMFS manages the groundfish fisheries in the exclusive economic zone under the Fishery Management Plan for the Gulf of Alaska Groundfish Fishery (FMP). The North Pacific Fishery Management Council prepared the FMP under the authority of the Magnuson-Stevens Fishery Conservation and Management Act, 16 U.S.C. 1801 et seq. Regulations governing U.S. fisheries and implementing the FMP appear at 50 CFR parts 600, 679, and 680.

On March 5, 2007, NMFS published a final rule (72 FR 9676) announcing specifications for the 2007 and 2008 fishing years for the groundfish fishery in the GOA. The intended effect of the action is to conserve and manage the groundfish resources in the GOA. In the final specification document NMFS announced the apportionment of PSC trawl limits between the trawl gear deep-water species complex and the shallow-water species complex. However, NMFS inadvertently indicated that the apportionment was for fishing years 2006 and 2007 rather than 2007 and 2008. This document corrects the error and republishes Table 10 in its entirety. In addition, section 679.82(d)(7) establishes sideboards to limit the ability of participants eligible for the Rockfish Program to catch fish in fisheries other than the Central GOA rockfish fisheries. Table 20 identifies the final 2007 and 2008 halibut mortality limits for the rockfish program. However, the rockfish program halibut mortality limits identified in Table 20 were inadvertently placed in reverse order among the columns. This document corrects the errors and republishes Table 12 in its entirety.

Correction

Accordingly, the final rule published on March 5, 2007, at 72 FR 9676 (FR Doc. E7-3775) is corrected as follows:

1. On page 9689, Table 10 is corrected and republished in its entirety to read as follows:

Table 10 - Final 2007 and 2008 Apportionment of Pacific Halibut PSC Trawl Limits Between the Trawl Gear Deep-Water Species Complex and the Shallow-Water Species Complex (values are in metric tons)
Season | Shallow-water | Deep-water | Total
January 20-April 1 | 450 | 100 | 550
April 1-July 1 | 100 | 300 | 400
July 1-September 1 | 200 | 400 | 600
September 1-October 1 | 150 | Any remainder | 150
Subtotal January 20-October 1 | 900 | 800 | 1,700
October 1-December 31¹ | n/a | n/a | 300
Total | n/a | n/a | 2,000
¹No apportionment between shallow-water and deep-water fishery complexes during the 5th season (October 1 - December 31).

2. On page 9700, Table 20 is corrected and republished in its entirety to read as follows:

Table 20 - Final 2007 and 2008 Rockfish Program Halibut Mortality Limits for the Catcher/Processor and Catcher Vessel Sectors (values are rounded to nearest metric ton)
Sector | Shallow-water complex halibut PSC sideboard ratio | Deep-water complex halibut PSC sideboard ratio | Annual halibut mortality limit (mt) | Annual shallow-water complex halibut PSC sideboard limit (mt) | Annual deep-water complex halibut PSC sideboard limit (mt)
Catcher/processor | 0.54 | 3.99 | 2,000 | 11 | 80
Catcher vessel | 6.32 | 1.08 | 2,000 | 126 | 22

Dated: March 14, 2007.
Samuel D. Rauch III,
Deputy Assistant Administrator for Regulatory Programs, National Marine Fisheries Service.

[FR Doc. E7-5074 Filed 3-20-07; 8:45 am]

BILLING CODE 3510-22-S